Proclamation 10980 of October 9, 2025

Columbus Day, 2025

By the President of the United States of America

A Proclamation

Today our Nation honors the legendary Christopher Columbus—the original American hero, a giant of Western civilization, and one of the most gallant and visionary men to ever walk the face of the earth. This Columbus Day, we honor his life with reverence and gratitude, and we pledge to reclaim his extraordinary legacy of faith, courage, perseverance, and virtue from the left-wing arsonists who have sought to destroy his name and dishonor his memory.

Born in Genoa, Italy in 1451, Columbus quickly emerged as a titan of the Age of Exploration. On August 3, 1492, following years of intense study, preparation, and petitioning, Christopher Columbus secured funding from the Spanish Crown to set out on a daring expedition that most believed to be impossible. Commissioned by Ferdinand and Isabella of Spain, Columbus and his crew boarded three small ships—the Niña, Pinta, and Santa Maria—to set sail on a perilous voyage across the Atlantic. He was guided by a noble mission: to discover a new trade route to Asia, bring glory to Spain, and spread the Gospel of Jesus Christ to distant lands.

Just over 2 months later, on October 12, 1492, Columbus made landfall in the modern-day Bahamas. Upon his arrival, he planted a majestic cross in a mighty act of devotion, dedicating the land to God and setting in motion America's proud birthright of faith. Though he initially believed he had arrived in Asia, his discovery opened the vast frontier and untold splendors of the New World to Europe. He later ventured onward to Cuba and other islands in the Caribbean—exploring their coasts and engaging with their people.

Guided by steadfast prayer and unwavering fortitude and resolve, Columbus's journey carried thousands of years of wisdom, philosophy, reason, and culture across the Atlantic into the Americas—paving the way for the ultimate triumph of Western civilization less than three centuries later on July 4, 1776.

Outrageously, in recent years, Christopher Columbus has been a prime target of a vicious and merciless campaign to erase our history, slander our heroes, and attack our heritage. Before our very eyes, left-wing radicals toppled his statues, vandalized his monuments, tarnished his character, and sought to exile him from our public spaces. Under my leadership, those days are finally over—and our Nation will now abide by a simple truth: Christopher Columbus was a true American hero, and every citizen is eternally indebted to his relentless determination.

As we celebrate his legacy, we also acknowledge the contributions of the countless Italian-Americans who, like him, have endlessly contributed to our culture and our way of life. To this day, the United States and Italy share a special bond rooted in the timeless values of faith, family, and freedom. My Administration looks forward to strengthening our long and storied friendship in the years to come.

This Columbus Day, more than 500 years since Columbus arrived in the New World, we follow his example, we echo his resolve, and we offer our gratitude for his life of valor and grit. Above all, we commit to restoring a Nation that once again dares to tame the unknown, honors our rich cultural inheritance, and offers rightful praise to our Creator above.

In commemoration of Christopher Columbus's historic voyage, the Congress, by joint resolution of April 30, 1934, and modified in 1968 (36 U.S.C. 107), as amended, has requested the President proclaim the second Monday of October of each year as “Columbus Day.”

NOW, THEREFORE, I, DONALD J. TRUMP, President of the United States of America, by virtue of the authority vested in me by the Constitution and the laws of the United States, do hereby proclaim October 13, 2025, as Columbus Day. I call upon the people of the United States to observe this day with appropriate ceremonies and activities. I also direct that the flag of the United States be displayed on all public buildings on the appointed day in honor of the great Christopher Columbus and all who have contributed to building our Nation.

IN WITNESS WHEREOF, I have hereunto set my hand this ninth day of October, in the year of our Lord two thousand twenty-five, and of the Independence of the United States of America the two hundred and fiftieth.

[FR Doc. 2025-19563

Filed 10-10-25; 2:00 pm]

Billing code 3395-F4-P